DEPARTMENT OF AGRICULTURE

Food and Nutrition Service

Agency Information Collection Activities: Proposed Collection; Comment Request—Special Supplemental Nutrition Program for Women, Infants and Children (WIC) Forms: FNS-698, FNS-699, and FNS-700; The Integrity Profile (TIP)

AGENCY: Food and Nutrition Service, USDA.

ACTION: Notice.

SUMMARY: In accordance with the Paperwork Reduction Act of 1995, this notice invites the general public and other public agencies to comment on this proposed information collection.

The purpose of the TIP Data Collection is to provide FNS and WIC State agencies with an annual data set that can be used to assess State agencies' compliance with WIC vendor management requirements and estimate State agencies' progress in eliminating fraud, waste, and abuse. This is an extension, without change, of a currently approved data collection.

DATES: Written comments must be received on or before May 21, 2018.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through automated, electronic, mechanical, or other technological collection techniques or other forms of information technology.

Comments may be sent to: Amy Herring, Chief, Program Integrity and Monitoring Branch, Supplemental Food Programs Division, Food and Nutrition Service, U.S. Department of Agriculture, 3101 Park Center Drive, Room 510, Alexandria, VA 22302.

Comments will also be accepted through the Federal eRulemaking Portal. Go to http://www.regulations.gov, and follow the online instructions for submitting comments electronically.

All responses to this notice will be summarized and included in the request for OMB approval, and become a matter of public record.

FOR FURTHER INFORMATION CONTACT: Requests for additional information or copies of this information collection should be directed to Amy Herring, (703) 305-2376.

SUPPLEMENTARY INFORMATION:

Title: The Integrity Profile (TIP) Data Collection.

OMB Number: 0584-0401.

Expiration Date: May 31, 2018.

Type of Request: Extension, without change, of a currently approved data collection.

Abstract: Each year, WIC State agencies administering the Special Supplemental Nutrition Program for Women, Infants and Children (WIC) are required by 7 CFR 246.12(j)(5) to submit to FNS an annual summary of the results of their vendor monitoring efforts in order to provide Congress, senior FNS officials, as well as the general public, assurance that every reasonable effort is being made to ensure integrity in the WIC Program. The number of WIC State agencies reporting remains at 90. This includes 50 geographic State agencies, 34 State agencies operated by Indian Tribal Organizations, the District of Columbia, Puerto Rico, Guam, American Samoa, the Commonwealth of Northern Marianas, and the Virgin Islands. All WIC State agencies use the TIP web-based system to report compliance and monitoring information. The reporting burden is comprised of three automated forms: The FNS-698, FNS-699, and FNS-700. The FNS-698 and FNS-699 are used to report State agency summary data, whereas the FNS-700 is used to capture information on each WIC authorized vendor. The number of vendors authorized by each WIC State agency varies. There are no changes in the burden hours associated with collection. There is no recordkeeping burden associated with this information collection request.

Estimate of Burden: Public reporting burden for this collection of information is estimated at .167 for completing the FNS-698 form, .083 for completing the FNS-699 form, and .167 for completing the FNS-700 form. The total burden is estimated at 0.42 for completing all three forms including the time for reviewing instructions, searching existing data sources, gathering and maintaining the data needed, and completing and reviewing the collection of information.

Affected Public: State and Tribal agencies.

Estimated Number of Respondents: 90 respondents.

Estimated Number of Responses per Respondent: One response per each form.

Estimated Total Annual Responses: 270 responses.

Estimated Total Annual Burden on Respondents: 38 hours.

Type of respondent | Form No. | Number of respondents | Number of responses annually per respondent | Total annual responses | Estimate of burden hours per response | Total annual burden hours
|  |  |  | (c × d) |  | (e × f)
WIC State Agencies | FNS-698 | 90 | 1 | 90 | 0.167 | 15.03
| FNS-699 | 90 | 1 | 90 | 0.083 | 7.47
| FNS-700 | 90 | 1 | 90 | 0.167 | 15.03
Total |  | 90 |  | 270 |  | 37.53

Dated: March 12, 2018.
Brandon Lipps,
Administrator, Food and Nutrition Service.

[FR Doc. 2018-05704 Filed 3-20-18; 8:45 am]

BILLING CODE 3410-30-P